DEPARTMENT OF COMMERCE

Foreign-Trade Zones Board

[Docket 5-99]

Foreign-Trade Zone 22—Chicago, IL; Application for Subzone Status; Amendment of Application—Clark Refining & Marketing, Inc. (Oil Refining Complex)

Notice is hereby given that the application of the Illinois International Port District, grantee of FTZ 22, requesting authority for special-purpose subzone status for the oil refinery complex of Clark Refining & Marketing, Inc., in Cook County, Illinois (64 FR 6877, 2/11/99), has been amended to add a contiguous parcel (6 acres, 9 tanks, 46,000 barrel capacity) to proposed Site 2, the crude oil tank farm located at 131st and Homan. The additional parcel will be used for final product storage.

The application remains otherwise unchanged.

The comment period is reopened until March 31, 2000.

Dated: February 22, 2000.
Dennis Puccinelli,
Acting Executive Secretary.

[FR Doc. 00-4919 Filed 2-29-00; 8:45 am]

BILLING CODE 3510-DS-P